DEPARTMENT OF HOMELAND SECURITY

Federal Emergency Management Agency

[Internal Agency Docket No. FEMA-4707-DR; Docket ID FEMA-2023-0001]

Hoopa Valley Tribe; Amendment No. 3 to Notice of a Major Disaster Declaration

AGENCY: Federal Emergency Management Agency, DHS.

ACTION: Notice.

SUMMARY: This notice amends the notice of a major disaster declaration for the Hoopa Valley Tribe (FEMA-4707-DR), dated April 25, 2023, and related determinations.

DATES: This amendment was issued July 6, 2023.

FOR FURTHER INFORMATION CONTACT: Dean Webster, Office of Response and Recovery, Federal Emergency Management Agency, 500 C Street SW, Washington, DC 20472, (202) 646-2833.

SUPPLEMENTARY INFORMATION: The notice of a major disaster declaration for the Hoopa Valley Tribe is hereby amended to include Crisis Counseling, Disaster Unemployment Assistance, Disaster Legal Services, and Disaster Case Management under the Individual Assistance program for those areas determined to have been adversely affected by the event declared a major disaster by the President in his declaration of April 25, 2023.

Hoopa Valley Tribe for Crisis Counseling, Disaster Unemployment Assistance, Disaster Legal Services, and Disaster Case Management under the Individual Assistance program (already designated for the Individuals and Households program and Public Assistance).

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Deanne Criswell,
Administrator, Federal Emergency Management Agency.

[FR Doc. 2023-16343 Filed 8-1-23; 8:45 am]

BILLING CODE 9111-23-P